DEPARTMENT OF AGRICULTURE

Animal and Plant Health Inspection Service

[Docket No. APHIS-2006-0007]

Exotic Fruit Fly Strategic Plan, Fiscal Years 2006-2010

AGENCY: Animal and Plant Health Inspection Service, USDA.

ACTION: Notice of availability.

SUMMARY: We are advising the public that the Animal and Plant Health Inspection Service has prepared a final Exotic Fruit Fly Strategic Plan for fiscal years 2006 through 2010 and is making it available for review. The final strategic plan has been updated in response to the comments we received on the draft strategic plan.

FOR FURTHER INFORMATION CONTACT: Mr. Michael B. Stefan, Director, Fruit Fly Exclusion and Detection Programs, PPQ, APHIS, 4700 River Road, Unit 137, Riverdale, MD 20737-1229; (301) 734-4387.

SUPPLEMENTARY INFORMATION:

Background

The Animal and Plant Health Inspection Service (APHIS) responds to exotic fruit fly risks with an integrated system that incorporates surveillance activities, fruit fly control programs, and regulatory actions. To outline how APHIS, along with its domestic and global partners, will harmonize these exotic fruit fly safeguarding programs and activities over the next 5 years, we prepared a draft document entitled “Exotic Fruit Fly Strategic Plan FY 2006-2010.” This draft strategic plan focused on the activities funded through APHISs' Fruit Fly Exclusion and Detection programs, whose primary mission is to protect the health and value of American agriculture resources threatened by the establishment of exotic fruit fly pests.

On February 17, 2006, we published in the Federal Register (71 FR 8563, Docket No. APHIS-2006-0007) a notice ¹ advising the public we had prepared the draft strategic plan and made it available to the public for review and comment.

¹ To view the draft strategic plan and the comments we received, go to http://www.regulations.gov, click on the “Advanced Search” tab, and select “Docket Search.” In the Docket ID field, enter APHIS-2006-0007, then click on “Submit.” Clicking on the Docket ID link in the search results page will produce a list of all documents in the docket.

We solicited comments concerning the draft strategic plan for 30 days ending March 20, 2006. We received eight comments by that date, from producers, private citizens, a not-for-profit organization, and representatives of State governments. All of the commenters supported the implementation of the 5-year exotic fruit fly strategic plan; however, some of the commenters also expressed concerns regarding the information provided, and the questions posed, in the appendices to the draft plan. The issues raised by the commenters are discussed below.

In Appendix A we offered up for discussion the potential actions we could take in response to the closing of the sterile Mediterranean fruit fly (Medfly) production facility in Waimanalo, HI. The following options were presented: (1) Do not replace the facility; (2) build a new production facility in Hawaii; (3) partner with California Department of Food and Agriculture to expand their sterile fruit fly production facility in Hawaii; or (4) build a multispecies facility in the continental United States or on foreign soil. The commenters all agreed on the need for a multispecies exotic fruit fly facility to provide backup capacity for our sterile fruit fly programs and emergency needs. Additionally, several commenters suggested potential sites for the new facility.

APHIS is in agreement with these commenters regarding the need for a backup multispecies sterile fruit fly production facility. We have begun to explore the available options, including the construction of a multispecies exotic fruit fly facility, either within or outside the continental United States, and the privatization of sterile fly production. We will be seeking additional information and suggestions from the public on this subject and expect to publish a request for information in a future issue of the Federal Register.

In Appendix B, we offered up for discussion a question as to whether or not we should continue to support the current Moscamed Program, a cooperative program of the Guatemalan, Mexican, and U.S. Governments to eradicate Medfly in Mexico and suppress Medfly populations in Guatemala. In the past, reliance on uncertain emergency funds has severely impacted the ability of Moscamed managers to plan and implement an effective program. In order to successfully maintain a Medfly barrier in southern Mexico, and, ultimately eradicate the pest from Central America, funding and management issues must be stabilized. Due to a potential loss of emergency funding ($10 million of Commodity Credit Corporation funds per year), the draft strategic plan suggested four options for altering the current program: (1) Eradicate Medfly from Guatemala and create a new barrier zone to maintain; (2) shift the barrier zone to the Isthmus of Tehuantepec; (3) pull out of the cooperative agreement with Mexico and use all $19 million to fight Medfly in Guatemala; or (4) pull out of the cooperative Moscamed Program in Mexico and Guatemala, and establish an emergency fund for preventative measures along the U.S.-Mexico border and for emergency outbreaks in the United States. As a result of these suggestions, a majority of the commenters expressed concern that altering the current Moscamed Program would diminish its effectiveness. Though it was not offered as an option, several commenters requested that we continue with the currently implemented Moscamed Program, unchanged.

APHIS is in agreement with these commenters with regard to continuing the currently implemented Moscamed Program. Because of the potential loss of emergency funding for the program, we have requested an additional $14 million in appropriated funds for the Moscamed Program in our 2007 Presidential Budget Proposal.

A few commenters requested we clarify the strategic plan by including additional specific information in the scientific support section before the draft's finalization.

In response to these comments, we have updated the scientific support section of the strategic plan by identifying specific detection and population suppression technologies through which APHIS will seek to reduce the number and severity of exotic fruit fly outbreaks within the United States. We have also included additional risk mitigation information regarding the use of molecular diagnostic techniques and tools that identify foreign sources of fruit fly pest introductions, as well as assurance that risk assessment will be a high priority in quality assurance of the fruit fly program.

We are making the final document available to the public for review. You may view the document on the Regulations.gov Web site (see footnote 1 in this notice for instructions for accessing Regulations.gov), or you may request copies from the person listed under FOR FURTHER INFORMATION CONTACT. Please refer to the title of the document when requesting copies. Finally, the document is available for review in our reading room. The reading room is located in room 1141 of the USDA South Building, 14th Street and Independence Avenue, SW., Washington, DC. Normal reading room hours are 8 a.m. to 4:30 p.m., Monday through Friday, except holidays. To be sure someone is there to help you, please call (202) 690-2817 before coming.

Done in Washington, DC, this 18th day of October 2006.
Kevin Shea,
Acting Administrator, Animal and Plant Health Inspection Service.

[FR Doc. E6-17777 Filed 10-23-06; 8:45 am]

BILLING CODE 3410-34-P